DEPARTMENT OF THE TREASURY

Office of Foreign Assets Control

Unblocking of Specially Designated Nationals and Blocked Persons Pursuant to Executive Order 12978

AGENCY: Office of Foreign Assets Control, Treasury.

ACTION: Notice.

SUMMARY: The Department of the Treasury's Office of Foreign Assets Control (OFAC) is publishing the names of three individuals whose property and interests in property have been unblocked pursuant to Executive Order 12978 of October 21, 1995, “Blocking Assets and Prohibiting Transactions With Significant Narcotics Traffickers”.

DATES: The unblocking and removal from the list of Specially Designated Nationals and Blocked Persons (SDN List) of the three individuals identified in this notice whose property and interests in property were blocked pursuant to Executive Order 12978 of October 21, 1995, is effective on January 27, 2015.

FOR FURTHER INFORMATION CONTACT: Assistant Director, Sanctions Compliance & Evaluation, Department of the Treasury, Office of Foreign Assets Control, Washington, DC 20220, Tel: (202) 622-2490.

SUPPLEMENTARY INFORMATION:

Electronic and Facsimile Availability

This document and additional information concerning OFAC are available from OFAC's Web site (www.treasury.gov/ofac) or via facsimile through a 24-hour fax-on demand service at (202) 622-0077.

Background

On October 21, 1995, the President, invoking the authority, inter alia, of the International Emergency Economic Powers Act (50 U.S.C. 1701-1706) (IEEPA), issued Executive Order 12978 (60 FR 54579, October 24, 1995) (the Order). In the Order, the President declared a national emergency to deal with the threat posed by significant foreign narcotics traffickers centered in Colombia and the harm that they cause in the United States and abroad.

Section 1 of the Order blocks, with certain exceptions, all property and interests in property that are in the United States, or that hereafter come within the United States or that are or hereafter come within the possession or control of United States persons, of: (1) The foreign persons listed in an Annex to the Order; (2) any foreign person determined by the Secretary of Treasury, in consultation with the Attorney General and the Secretary of State: (a) To play a significant role in international narcotics trafficking centered in Colombia; or (b) to materially assist in, or provide financial or technological support for or goods or services in support of, the narcotics trafficking activities of persons designated in or pursuant to the Order; and (3) persons determined by the Secretary of the Treasury, in consultation with the Attorney General and the Secretary of State, to be owned or controlled by, or to act for or on behalf of, persons designated pursuant to the Order.

On January 27, 2015, the Associate Director, Office of Global Targeting of OFAC removed from the SDN List three individuals listed below, whose property and interests in property were blocked pursuant to the Order:

Individuals

1. PARRA DUQUE, Guillermo, Carrera 3 Oeste No. 11-168, Cali, Colombia; DOB 30 Dec 1964; POB Cali, Colombia; Cedula No. 16824664 (Colombia); Passport AF776832 (Colombia) (individual) [SDNT].

2. RIVERA ZAPATA, Freddy, c/o UNIPAPEL S.A., Yumbo, Colombia; c/o CREDISA S.A., Cali, Colombia; c/o FINVE S.A., Bogota, Colombia; c/o COMPANIA DE FOMENTO MERCANTIL S.A., Cali, Colombia; POB Cali, Valle, Colombia; Cedula No. 16602963 (Colombia); Passport 16602963 (Colombia) (individual) [SDNT].

3. VALENCIA TRUJILLO, Agueda, Carrera 4 No. 11-45 Ofc. 506, Cali, Colombia; Carrera 5 No. 17-66, Cali, Colombia; Calle 9N A 3-37 Apt. 701, Cali, Colombia; c/o CREDISA S.A., Cali, Colombia; c/o COMPANIA DE FOMENTO MERCANTIL S.A., Cali, Colombia; c/o PARQUE INDUSTRIAL PROGRESO S.A., Yumbo, Colombia; c/o CONSTRUCCIONES PROGRESO DEL PUERTO S.A., Puerto Tejada, Colombia; c/o UNIDAS S.A., Cali, Colombia; DOB 10 Aug 1959; POB Cali, Valle, Colombia; Cedula No. 38943524 (Colombia); Passport 38943524 (Colombia) (individual) [SDNT].

Dated: January 27, 2015.
Gregory T. Gatjanis,
Associate Director, Office of Global Targeting, Office of Foreign Assets Control.

[FR Doc. 2015-02312 Filed 2-4-15; 8:45 am]

BILLING CODE 4810-AL-P